DEPARTMENT OF LABOR

Employment and Training Administration

[TA-W-52,906]

Radioshack Corporation, TE Electronics, Division of Radioshack Corporation, Tandy Distributor Products, Swannanoa, North Carolina; Amended Certification Regarding Eligibility to Apply for Worker Adjustment Assistance

In accordance with Section 223 of the Trade Act of 1974 (19 U.S.C. 2273) the Department of Labor issued a Certification of Eligibility to Apply for Worker Adjustment Assistance on October 17, 2003, applicable to workers of RadioShack Corp., TDP Electronics Div., an operating entity of North American Manufacturing, Swannanoa, North Carolina. The notice was published in the Federal Register on November 6, 2003 (68 FR 62834).

At the request of a company official, the Department reviewed the certification for workers of the subject firm. The workers are engaged in the production of household audio and video equipment.

New information shows that some workers separated from employment at the subject firm had their wages reported under a separate unemployment insurance (UI) tax account for TE Electronics, Division of RadioShack Corporation, Tandy Distributor Products.

Accordingly, the Department is amending the certification to properly reflect this matter.

The intent of the Department's certification is to include all workers of RadioShack Corporation, TE Electronics, Division of RadioShack Corporation, Tandy Distributor Products, Swannanoa, North Carolina who were adversely affected by increased imports.

The amended notice applicable to TA-W-52,906 is hereby issued as follows:

“All workers of RadioShack Corporation, TE Electronics, Division of RadioShack Corporation, Tandy Distributor Products, Swannanoa, North Carolina, who became totally or partially separated from employment on or after September 10, 2002, through October 17, 2005, are eligible to apply for adjustment assistance under Section 223 of the Trade Act of 1974.”

Signed at Washington, DC, this 15th day of December 2003.
Richard Church,
Certifying Officer, Division of Trade Adjustment Assistance.

[FR Doc. 04-304 Filed 1-6-04; 8:45 am]

BILLING CODE 4510-30-P